DEPARTMENT OF EDUCATION

34 CFR Part 361

RIN 1820-AB52

State Vocational Rehabilitation Services Program

AGENCY: Office of Special Education and Rehabilitative Services, Department of Education.

ACTION: Final regulations; correction.

SUMMARY: On January 22, 2001, final regulations for the State Vocational Rehabilitation Services Program were published in the Federal Register (66 FR 7250). This document corrects the January 22 document.

DATES: This correction is effective October 1, 2001.

FOR FURTHER INFORMATION CONTACT: Beverlee Stafford, U.S. Department of Education, 400 Maryland Avenue, SW., room 3014, Mary E. Switzer Building, Washington DC 20202-2531. Telephone: (202) 205-8831. If you use a telecommunications device for the deaf (TDD), you may call (202) 205-5538.

Individuals with disabilities may obtain this document in an alternative format (e.g., Braille, large print, audiotape, or computer diskette) on request to Katie Mincey, Director, Alternate Formats Center, U.S. Department of Education, 400 Maryland Avenue, SW., room 1000, Mary E. Switzer Building, Washington, DC 20202-2531. Telephone (202) 260-9895. If you use a telecommunications device for the deaf (TDD), you may call the Federal Information Relay Service (FIRS) at 1-800-877-8339.

SUPPLEMENTARY INFORMATION:

Electronic Access to This Document

You may view this document, as well as all other Department of Education documents published in the Federal Register, in text or Adobe Portable Document Format (PDF) on the Internet at either of the following sites:

http://ocfo.ed.gov/fedreg.htm

http://www.ed.gov/news.html

To use the PDF you must have Adobe Acrobat Reader, which is available free at either of the previous sites. If you have questions about using PDF, call the U.S. Government Printing Office (GPO), toll free, at 1-888-293-6498; or, in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Number: 84.126 State Vocational Rehabilitation Services Program)

Dated: February 28, 2001.
Andrew J. Pepin,
Executive Administrator for Special Education and Rehabilitative Services.

In the final regulations, FR Doc. 01-1746, published on January 22, 2001 (66 FR 7250), make the following correction:

1. On page 7250, in the second column, in the preamble, under the SUPPLEMENTARY INFORMATION heading, in lines 22 and 37, correct “2000” to read “2001”.

[FR Doc. 01-5252 Filed 3-2-01; 8:45 am]

BILLING CODE 4000-01-P